DEPARTMENT OF DEFENSE

Defense Acquisition Regulations System

[Docket Number DARS-2024-0036; OMB Control Number 0704-0231]

Information Collection Requirement; Defense Federal Acquisition Regulation Supplement (DFARS) Part 237, Service Contracting, and Related Clauses and Forms

AGENCY: Defense Acquisition Regulations System; Department of Defense (DoD).

ACTION: Notice and request for comments regarding a proposed extension of an approved information collection requirement.

SUMMARY: In compliance with the Paperwork Reduction Act of 1995, DoD announces a proposed extension of a public information collection requirement and seeks public comment on the provisions thereof. DoD invites comments on: whether the proposed collection of information is necessary for the proper performance of the functions of DoD, including whether the information will have practical utility; the accuracy of DoD's estimate of the burden of the proposed information collection; ways to enhance the quality, utility, and clarity of the information to be collected; and ways to minimize the burden of the information collection on respondents, including the use of automated collection techniques or other forms of information technology. The Office of Management and Budget (OMB) has approved this information collection for use under Control Number 0704-0231 through March 31, 2025. DoD proposes that OMB approve an extension of the information collection requirement, to expire three years after the approval date.

DATES: DoD will consider all comments received by January 13, 2025.

ADDRESSES: You may submit comments, identified by OMB Control Number 0704-0231, using either of the following methods:

o Federal eRulemaking Portal: https://www.regulations.gov. Follow the instructions for submitting comments.

o Email: osd.dfars@mail.mil. Include OMB Control Number 0704-0231 in the subject line of the message.

Comments received generally will be posted without change to https://www.regulations.gov, including any personal information provided.

FOR FURTHER INFORMATION CONTACT: Ms. Saleemah McMillan, at 202-308-5383.

SUPPLEMENTARY INFORMATION: Title and OMB Number: Defense Federal Acquisition Regulation Supplement (DFARS) Part 237, Service Contracting, associated DFARS Clauses at DFARS 252.237, DD Form 2062, and DD Form 2063; OMB Control Number 0704-0231.

Affected Public: Businesses or other for-profit and not-for-profit institutions.

Respondent's Obligation: Required to obtain or retain benefits.

Frequency: On occasion.

Number of Respondents: 7,018.

Responses Per Respondent: 3.8.

Annual Responses: 26,564.

Average Burden Per Response: 1.01 hours.

Annual Burden Hours: 26,738.

Needs and Uses: This information collection is used for the following purposes—

a. The information collected pursuant to paragraph (c) of the solicitation provision at DFARS 252.237-7000, Notice of Special Standards of Responsibility, is used to verify that the offeror is properly licensed in the state or other political jurisdiction in which the offeror operates its professional practice.

b. The contract clause at DFARS 252.237-7011, Preparation History; the DD Form 2062, Record of Preparation and Disposition of Remains (Outside CONUS); and the DD Form 2063, Record of Preparation and Disposition of Remains (Within CONUS) are used to verify that the deceased's remains have been properly cared for by the mortuary contractor.

c. The written plan required by the solicitation provision at DFARS 252.237-7024, Notice of Continuation of Essential Contractor Services, submitted by offerors concurrently with the proposal or offer, allows the contracting officer to assess the offeror's capability to continue providing contractually required services to support the DoD component's mission-essential functions during periods of crisis.

d. The information collected pursuant to the contract clause at DFARS 252.237-7023, Continuation of Essential Contractor Services, allows the contracting officer to provide approval of updates to the contractor's plan provided under the provision at DFARS 252.237-7024, to ensure that the contractor can continue to provide services in support of the DoD component's required mission-essential functions during crisis situations.

Jennifer D. Johnson,
Editor/Publisher, Defense Acquisition Regulations System.

[FR Doc. 2024-26234 Filed 11-12-24; 8:45 am]

BILLING CODE 6001-FR-P